DEPARTMENT OF AGRICULTURE

Forest Service

Suspension of Public Comment Period and Notice of Intent To Prepare Supplemental Draft Environmental Impact Statement: North Fork Eagle Creek Wells Special Use Authorization

AGENCY: Forest Service, USDA.

ACTION: Suspension of comment period/corrected notice of intent.

SUMMARY: The USDA Forest Service, Lincoln National Forest, is suspending the public comment period for a Draft Environmental Impact Statement (DEIS) for the North Fork Eagle Creek Wells Special Use Authorization. As a result of the Little Bear Fire occurring in the project area, a supplemental DEIS will be prepared considering changed circumstances. The supplemental DEIS will disclose potential impacts of a proposed action to authorize, under a new special use permit, the operation of four municipal supply water wells located on National Forest System (NFS) land in the North Fork Eagle Creek drainage. The new permit would be authorized for up to 20 years, with stipulations for frequent review and verification of the permit terms and conditions. These could occur as often as every year but would occur at least every 5 to 10 years. The new authorization would add terms and conditions to the permit reflecting adaptive management strategies, which respond both to the purpose and need for action as well as to mitigate potential adverse impacts to surface water and groundwater resources from well operations. The Environmental Protection Agency (EPA) published a notice of availability (NOA) of the DEIS in the Federal Register on May 25, 2012 [77-31355; EIS No. 20120161]. The NOA provided for a public comment period ending on July 9, 2012.

DATES: Due to extenuating circumstances caused by the Little Bear wildland fire, a supplemental DEIS will be prepared considering changed circumstances in the project area. At this time there is no formal notice and comment period that will provide the commenter appeal rights, but comments on these changed circumstances are encouraged to aid completion of the supplemental DEIS and will be most beneficial if received by September 7, 2012. Comments from all parties received or postmarked after September 7, 2012 will be considered to the extent practicable. Once completed, the DEIS and supplemental DEIS will be released for a formal 45-day public comment period and notice of the comment period will be advertised.

ADDRESSES: Copies of the DEIS are available for public review at the following locations:

* Lincoln National Forest Supervisor's Office: 3463 Las Palomas Road, Alamogordo, New Mexico.

* Smokey Bear Ranger District: 901 Mechem Drive, Ruidoso, New Mexico.

Written comments are best submitted electronically by accessing http://www.fs.fed.us/nepa/fs-usda-pop.php?project=9603. To electronically comment, select `Comment on Project' in the `Get Connected' box on the right side of Web page.

Written comments may also be submitted to: Robert G. Trujillo, Forest Supervisor, Lincoln National Forest, 3463 Las Palomas Rd, Alamogordo, NM 88310, or facsimile 575-434-7218. Oral comments can be provided at the Responsible Official's office during normal business hours (8:00 a.m.-4:30 p.m. Monday through Friday, excluding holidays), via telephone 575-434-7200, or in person.

FOR FURTHER INFORMATION CONTACT: Debbie McGlothlin, Environmental Coordinator, TEAMS Enterprise Unit, at 559-920-4952.

Dated: July 16, 2012.
Robert G. Trujillo,
Forest Supervisor.

[FR Doc. 2012-17695 Filed 7-19-12; 8:45 am]

BILLING CODE 3410-11-P